DEPARTMENT OF COMMERCE

International Trade Administration

[A-533-873]

Certain Cold-Drawn Mechanical Tubing of Carbon and Alloy Steel From India: Partial Rescission of Antidumping Duty Administrative Review; 2019-2020

AGENCY: Enforcement and Compliance, International Trade Administration, Department of Commerce.

SUMMARY: The Department of Commerce (Commerce) is rescinding the administrative review, in part, of the antidumping duty order on certain cold-drawn mechanical tubing of carbon and alloy steel (cold-drawn mechanical tubing) from India for the period June 1, 2019, through May 31, 2020.

DATES: Applicable October 27, 2020.

FOR FURTHER INFORMATION CONTACT: Alexis Cherry or Samantha Kinney, AD/CVD Operations, Office VIII, Enforcement and Compliance, International Trade Administration, Department of Commerce, 1401 Constitution Avenue NW, Washington, DC 20230; telephone: (202) 482-0607 or 202-482-2285 respectively.

SUPPLEMENTARY INFORMATION:

Background

On June 2, 2020, Commerce published a notice of opportunity to request an administrative review of the antidumping duty order on cold-drawn mechanical tubing from India for the period June 1, 2019, through May 31, 2020.¹ On June 30, 2020, the petitioners ² filed a timely request for review with respect to Goodluck India Limited (Goodluck) and Tube Products of India, Ltd., a unit of Tube Investments of India Limited (collectively, TPI).³ Goodluck and Pennar Industries Limited (Pennar) timely requested reviews of themselves.⁴ Based on these requests, on August 6, 2020, in accordance with section 751(a) of the Tariff Act of 1930, as amended (the Act), and 19 CFR 351.213(b), Commerce published in the Federal Register a notice of initiation of an administrative review of the antidumping duty order on cold-drawn mechanical tubing from India covering the period June 1, 2019, through May 31, 2020.⁵

¹ See Antidumping or Countervailing Duty Order, Finding, or Suspended Investigation; Opportunity to Request Administrative Review, 85 FR 33628 (June 2, 2020).

² The petitioners are ArcelorMittal Tubular Products LLC, Michigan Seamless Tube, LLC, Plymouth Tube Co., PTC Alliance Corp., Webco Industries Inc., and Zekelman Industries.

³ See the Petitioner's Letter, “Cold-Drawn Mechanical Tubing from India—Domestic Industry's Request for Second Administrative Review of the Antidumping Duty Order,” dated June 30, 2020.

⁴ See Goodluck India's Letter, “Request for Administrative Review of the Antidumping Duty Order on Certain Cold-Drawn Mechanical Tubing of Carbon and Alloy Steel,” dated June 30, 2020. See also Pennar Industries' Letter, “Request for Administrative Review of the Antidumping Duty Order on Certain Cold-Drawn Mechanical Tubing of Carbon and Alloy Steel for the POR: June 1, 2019 to May 31, 2020,” dated June 30, 2020.

⁵ See Initiation of Antidumping and Countervailing Duty Administrative Reviews, 85 FR 47731 (August 6, 2020) (Initiation Notice).

On October 7, 2020, Pennar withdrew its request for administrative review of itself.⁶ No other interested parties requested an administrative review with respect to Pennar.

⁶ See Pennar's Letter, “Certain Cold-Drawn Mechanical Tubing of Carbon and Alloy Steel from India/Withdrawal of Request for the Antidumping Duty of Pennar Industries Limited,” dated October 7, 2020.

Partial Rescission of Review

Pursuant to 19 CFR 351.213(d)(1), Commerce will rescind an administrative review, in whole or in part, if the party that requested the review withdraws its request within 90 days of the publication of the notice of initiation of the requested review.

Because Pennar's request for administrative review of itself was withdrawn within 90 days of the date of publication of the Initiation Notice, and no other interested party requested a review of this company, Commerce is rescinding this review with respect to Pennar, in accordance with 19 CFR 351.213(d)(1). The administrative review remains active with respect to the two remaining companies for which a review was initiated, i.e., Goodluck ⁷ and TPI.

⁷ Commerce is only reviewing entries that were produced, but not exported, by Goodluck, and/or entries that were exported, but not produced, by Goodluck.

Assessment

Commerce will instruct U.S. Customs and Border Protection (CBP) to assess antidumping duties on all appropriate entries of cold-drawn mechanical tubing from India at a rate equal to the cash deposit of estimated antidumping duties required at the time of entry, or withdrawal from warehouse, for consumption, during the period June 1, 2019, through May 31, 2020, in accordance with 19 CFR 351.212(c)(1)(i). Commerce intends to issue appropriate assessment instructions to CBP 15 days after the publication of this notice in the Federal Register.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of the antidumping duties occurred and the subsequent assessment of doubled antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

This notice is issued and published in accordance with sections 751(a)(1) and 777(i)(1) of the Act and 19 CFR 351.213(d)(4).

Dated: October 21, 2020.
James Maeder,
Deputy Assistant Secretary for Antidumping and Countervailing Duty Operations.

[FR Doc. 2020-23740 Filed 10-26-20; 8:45 am]

BILLING CODE 3510-DS-P